FEDERAL COMMUNICATIONS COMMISSION

47 CFR Part 73

[DA 02-1668, MB Docket No. 02-84, RM-10339]

Digital Television Broadcast Service; San Mateo, CA

AGENCY: Federal Communications Commission.

ACTION: Final rule.

SUMMARY: The Commission, at the request of San Mateo County Community College District, licensee of noncommercial educational station KCSM-TV, San Mateo, California, substitutes DTV channel *43 for DTV channel *59 at San Mateo. See 67 FR 20942, April 29, 2002. DTV channel *43 can be allotted to San Mateo in compliance with the principle community coverage requirements of Section 73.625(a) at reference coordinates 37-45-19 N. and 122-27-06 W. with a power of 1000, HAAT of 444 meters and with a DTV service population of 5476 thousand. With this action, this proceeding is terminated.

DATES: Effective September 3, 2002.

FOR FURTHER INFORMATION CONTACT: Pam Blumenthal, Media Bureau, (202) 418-1600.

SUPPLEMENTARY INFORMATION: This is a synopsis of the Commission's Report and Order, MB Docket No. 02-84, adopted July 11, 2002, and released July 18, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under California, is amended by removing DTV channel *59 and adding DTV channel *43 at San Mateo.

Federal Communications Commission.
Barbara A. Kreisman,
Chief, Video Division, Media Bureau.

[FR Doc. 02-20187 Filed 8-8-02; 8:45 am]

BILLING CODE 6712-01-P